Title 3—

The President

Proclamation 9351 of October 16, 2015

National Character Counts Week, 2015

By the President of the United States of America

A Proclamation

Since our Nation's founding, generations of people of goodwill have contributed to the basic notion that America succeeds when we look out for one another and lend a hand to building a brighter future for our children and grandchildren. As we celebrate National Character Counts Week, we draw inspiration from those who paved the way for greater tolerance and empathy among all people, recognize the efforts and abilities of those around us, and work to carry forward our common principles and instill them in the hearts and minds of future generations.

In every corner of our country and the globe, we see ordinary people whose desire to make a difference reflects the best of our innate human character. They are the brave men and women in uniform who serve and sacrifice to protect the freedoms we hold dear, and the educators and mentors who tirelessly strive to lift up the lives of those who look up to them. They are parents and coaches and neighbors and colleagues, and in every community they are combatting cynicism and working to realize a better tomorrow for strangers and friends alike. Whether they are the first responders who keep us safe or simply good-hearted citizens, these individuals exemplify our shared values and stand for a powerful fundamental truth: Our society is what we make of it, and each of us—no matter who we are or where we come from—can make meaningful change in the lives of others.

This week, as we hold true to the ideals that bind us together, let us remind our children of their important role in charting our journey forward and empower them with strength and conviction to pursue progress with hope and compassion. If they are able to draw on the inherent qualities of our Nation's character—our commitment to each other, our courage and optimism in the face of challenges, and our determination to make the world we share a better place—I am confident they will continue serving as stewards of kindness and charity and contributing to a fairer, more generous, more peaceful America.

NOW, THEREFORE, I, BARACK OBAMA, President of the United States of America, by virtue of the authority vested in me by the Constitution and the laws of the United States, do hereby proclaim October 18 through October 24, 2015, as National Character Counts Week. I call upon public officials, educators, parents, students, and all Americans to observe this week with appropriate ceremonies, activities, and programs.

IN WITNESS WHEREOF, I have hereunto set my hand this sixteenth day of October, in the year of our Lord two thousand fifteen, and of the Independence of the United States of America the two hundred and fortieth.

[FR Doc. 2015-27106

Filed 10-21-15; 11:15 am]

Billing code 3295-F6-P